DEPARTMENT OF ENERGY

Federal Energy Regulatory Commission

[Docket No. RP99-176-032]

Natural Gas Pipeline Company of America; Notice of Negotiated Rate

April 4, 2001.

Take notice that on March 30, 2001, Natural Gas Pipeline Company of America (Natural) tendered for filing to become part of its FERC Gas Tariff, Sixth Revised Volume No. 1, First Revised Sheet No. 26D, to be effective April 1, 2001.

Natural state that the purpose of this filing is to implement an election made by Nicor Gas Company (Nicor Gas) to exercise its unilateral MDQ reduction right, to be effective April 1, 2001, in the amount of 20,000 MMBtu per day, pursuant to Article 6 section 6.1(a) of the Firm Transportation and Storage Negotiated Rate Agreement that is currently on file with the Commission. The proposed tariff sheet sets out the information required pursuant to section 49.1(e) of the General Terms and Conditions of Natural's Tariff.

Natural concurrently tenders for filing with the Commission, under separate cover letter in this docket, copies of Nicor Gas' notice of election to exercise MDQ reduction rights, together with copies of the revisions to the primary point exhibits for each of the affected Rate Schedule FTS service agreements subject to the Firm Transportation and Storage Negotiated Rate Agreement.

Natural states that copies of the filing are being mailed to all parties set out on the Commission's official service list in Docket No. RP99-176.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http:/www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8788 Filed 4-9-01; 8:45 am]

BILLING CODE 6717-01-M